DEPARTMENT OF TRANSPORTATION

Federal Aviation Administration

Second Meeting, Special Committee 213 Enhanced Flight Vision Systems/Synthetic Vision System (EFVS/SVS)

AGENCY: Federal Aviation Administration (FAA), DOT.

ACTION: Notice of RTCA Special Committee 213, Enhanced Flight Vision Systems/Synthetic Vision System (EFVS/SVS).

SUMMARY: The FAA is issuing this notice to advise the public of a second meeting of RTCA Special Committee 213, Enhanced Flight Vision Systems/Synthetic Vision System (EFVS/SVS).

DATES: The meeting will be held May 22-24, 2007 from 9 a.m.-5 p.m.

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org for directions.

SUPPLEMENTARY INFORMATION: Pursuant to section 10(a)(2) of the Federal Advisory Committee Act (Pub. L. 92-463, 5 U.S.C., Appendix 2), notice is hereby given for a Special Committee 213 meeting. The agenda will include:

• May 22:

• Opening Plenary Session (Welcome, Introductions, and Administrative Remarks, Agenda Review).

• Review SC-213 Objectives, Action Items, and SC-213 Web site and document content.

• Review initial reports from WG 1, and WG 2, and status of WG 3 for helicopters.

• SVS/EVS Technology update.

• Afternoon: WG 1 and WG 2 meeting for task assignments.

• May 23:

• Morning: Continued WG 1 and WG 2 task assignment.

• Afternoon: Establish date/place for next meeting.

• Review action items and define next steps/task for MASPS development.

• May 24 a.m.:

• WG 1 meeting.

• WG 2 meeting.

• Closing Plenary Session (Other Business, Establish Agenda, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 18, 2007.
Francisco Estrada C.,
RTCA Advisory Committee.

[FR Doc. 07-2054 Filed 4-25-07; 8:45 am]

BILLING CODE 4910-13-M